SUSQUEHANNA RIVER BASIN COMMISSION

Projects Approved for Consumptive Uses of Water

AGENCY: Susquehanna River Basin Commission.

ACTION: Notice.

SUMMARY: This notice lists Approvals by Rule for projects by the Susquehanna River Basin Commission during the period set forth in DATES.

DATES: October 1-31, 2022.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries may be sent to the above address.

SUPPLEMENTARY INFORMATION: This notice lists the projects, described below, receiving approval for the consumptive use of water pursuant to the Commission's approval by rule process set forth in 18 CFR 806.22 (f) for the time period specified above:

Water Source Approval—Issued Under 18 CFR 806.22 (f)

1. Chesapeake Appalachia, L.L.C.; Pad ID: McCabe; ABR-201008157.R2; Towanda Township, Bradford County, Pa.; Consumptive Use of Up to 7.5000 mgd; Approval Date: October 17, 2022.

2. Chesapeake Appalachia, L.L.C.; Pad ID: Rylee; ABR-20100610.R2; Auburn Township, Susquehanna County, Pa.; Consumptive Use of Up to 7.5000 mgd; Approval Date: October 17, 2022.

3. Chesapeake Appalachia, L.L.C.; Pad ID: Thall; ABR-201008140.R2; Albany Township, Bradford County, Pa.; Consumptive Use of Up to 7.5000 mgd; Approval Date: October 17, 2022.

4. Chesapeake Appalachia, L.L.C.; Pad ID: Wolf; ABR-201008158.R2; Athens Township, Bradford County, Pa.; Consumptive Use of Up to 7.5000 mgd; Approval Date: October 17, 2022.

5. EQT ARO LLC; Pad ID: Clearview HC Pad A; ABR-201007076.R2; Gamble Township, Lycoming County, Pa.; Consumptive Use of Up to 4.0000 mgd; Approval Date: October 17, 2022.

6. EQT ARO LLC; Pad ID: COP Tr 285 Pad E; ABR-201007074.R2; Grugan Township, Clinton County, Pa.; Consumptive Use of Up to 4.0000 mgd; Approval Date: October 17, 2022.

7. EQT ARO LLC; Pad ID: Frank L Hartley Pad A; ABR-201008144.R2; Cogan House Township, Lycoming County, Pa.; Consumptive Use of Up to 4.0000 mgd; Approval Date: October 17, 2022.

8. PPG Operations LLC; Pad ID: COP 324-A; ABR-202210002; Girard Township, Clearfield County, Pa.; Consumptive Use of Up to 5.0000 mgd; Approval Date: October 17, 2022.

9. Repsol Oil & Gas USA, LLC; Pad ID: CALABRO T2; ABR-201505007.R1; Orange Town, Schuyler County, NY; Consumptive Use of Up to 0.0800 mgd; Approval Date: October 17, 2022.

10. Repsol Oil & Gas USA, LLC; Pad ID: FROST 2; ABR-201505005.R1; Orange Town, Schuyler County, NY; Consumptive Use of Up to 0.0800 mgd; Approval Date: October 17, 2022.

11. Seneca Resources Company, LLC; Pad ID: B09-S; ABR-202210001; Shippen Township, Cameron County, Pa.; Consumptive Use of Up to 4.0000 mgd; Approval Date: October 17, 2022.

12. Seneca Resources Company, LLC; Pad ID: Kinnan 845; ABR-201008135.R2; Middlebury Township, Tioga County, Pa.; Consumptive Use of Up to 4.0000 mgd; Approval Date: October 17, 2022.

13. BKV Operating, LLC; Pad ID: P&G Warehouse 1-1H; ABR-201008156.R2; Meshoppen Township, Wyoming County, Pa.; Consumptive Use of Up to 5.0000 mgd; Approval Date: October 19, 2022.

14. BKV Operating, LLC; Pad ID: Ricci Well Pad; ABR-201208019.R2; Bridgewater Township, Susquehanna County, Pa.; Consumptive Use of Up to 5.0000 mgd; Approval Date: October 19, 2022.

15. Chesapeake Appalachia, L.L.C.; Pad ID: SGL-12 L SOUTH UNIT PAD; ABR-202010001.1; Leroy Township, Bradford County, Pa.; Consumptive Use of Up to 6.0000 mgd; Approval Date: October 19, 2022.

16. Coterra Energy Inc.; Pad ID: SalanskyT P1; ABR-201208022.R2; Gibson Township, Susquehanna County, Pa.; Consumptive Use of Up to 5.0000 mgd; Approval Date: October 19, 2022.

17. Range Resources—Appalachia, LLC; Pad ID: McWilliams Unit #6H—#10H Well Pad; ABR-201208015.R2; Cogan House Township, Lycoming County, Pa.; Consumptive Use of Up to 4.0000 mgd; Approval Date: October 19, 2022.

18. Range Resources—Appalachia, LLC; Pad ID: Null Bobst Unit 1H-5H; ABR-201208018.R2; Cogan House Township, Lycoming County, Pa.; Consumptive Use of Up to 4.0000 mgd; Approval Date: October 19, 2022.

19. Repsol Oil & Gas USA, LLC; Pad ID: GREEN NEWLAND LLC (05 067); ABR-201008151.R2; Warren Township, Bradford County, Pa.; Consumptive Use of Up to 6.0000 mgd; Approval Date: October 19, 2022.

20. Repsol Oil & Gas USA, LLC; Pad ID: KUHLMAN (05 258) M; ABR-201208023.R2; Windham Township, Bradford County, Pa.; Consumptive Use of Up to 6.0000 mgd; Approval Date: October 19,2022.

21. Seneca Resources Company, LLC; Pad ID: DCNR Tract 001 1H; ABR-201008142.R2; Sweden Township, Potter County, Pa.; Consumptive Use of Up to 4.0000 mgd; Approval Date: October 19, 2022.

22. Chesapeake Appalachia, L.L.C.; Pad ID: SGL 289B; ABR-201009009.R2; West Burlington Township, Bradford County, Pa.; Consumptive Use of Up to 7.5000 mgd; Approval Date: October 24, 2022.

23. Chesapeake Appalachia, L.L.C.; Pad ID: Stoudt; ABR-201009011.R2; Overton Township, Bradford County, Pa.; Consumptive Use of Up to 7.5000 mgd; Approval Date: Ocobert 24, 2022.

24. Chesapeake Appalachia, L.L.C.; Pad ID: Tague East Drilling Pad; ABR-201208024.R2; Lemon Township, Wyoming County, Pa.; Consumptive Use of Up to 7.5000 mgd; Approval Date: October 24, 2022.

25. Chesapeake Appalachia, L.L.C.; Pad ID: Vera; ABR-201009001.R2; Fox Township, Sullivan County, Pa.; Consumptive Use of Up to 7.5000 mgd; Approval Date: October 24, 2022.

26. EQT ARO LLC; Pad ID: Plants Evergreen Farm Pad A; ABR-201009003.R2; Cascade Township, Lycoming County, Pa.; Consumptive Use of Up to 4.0000 mgd; Approval Date: October 24, 2022.

27. Repsol Oil & Gas USA, LLC; Pad ID: RITZ (03 073) G; ABR-201009019.R2; Columbia Township, Bradford County, Pa.; Consumptive Use of Up to 6.0000 mgd; Approval Date: October 24, 2022.

28. Chesapeake Appalachia, L.L.C.; Pad ID: Atgas; ABR-201008066.R2; Leroy Township, Bradford County, Pa.; Consumptive Use of Up to 7.5000 mgd; Approval Date: October 30, 2022.

29. Chesapeake Appalachia, L.L.C.; Pad ID: Bluegrass; ABR-201007103.R2; Rush Township, Susquehanna County, Pa.; Consumptive Use of Up to 7.5000 mgd; Approval Date: October 30, 2022.

30. Repsol Oil & Gas USA, LLC; Pad ID: ANTISDEL (05 035) M; ABR-201009015.R2; Warren and Windham Townships, Bradford County, Pa.; Consumptive Use of Up to 6.0000 mgd; Approval Date: October 30, 2022.

31. Repsol Oil & Gas USA, LLC; Pad ID: UGLIUZZA (05 006) L; ABR-201007086.R2; Pike Township, Bradford County, Pa.; Consumptive Use of Up to 6.0000 mgd; Approval Date: October 30, 2022.

32. Repsol Oil & Gas USA, LLC; Pad ID: WRAY (03 058) M; ABR-20100649.R2; Wells Township, Bradford County, Pa.; Consumptive Use of Up to 6.0000 mgd; Approval Date: October 30, 2022.

33. Chesapeake Appalachia, L.L.C.; Pad ID: Williams; ABR-201009031.R2; Ulster Township, Bradford County, Pa.; Consumptive Use of Up to 7.5000 mgd; Approval Date: October 31, 2022.

34. Inflection Energy (PA) LLC; Pad ID: Smith West Well Site; ABR-202210004; Gamble Township, Lycoming County, Pa.; Consumptive Use of Up to 4.0000 mgd; Approval Date: October 31, 2022.

35. PPG Operations LLC; Pad ID: COP 324 Elk; ABR-202210003; Girard Township, Clearfield County, Pa.; Consumptive Use of Up to 7.5000 mgd; Approval Date: October 31, 2022.

36. Seneca Resources Company, LLC; Pad ID: COP Pad J; ABR-201009022.R2; Lawrence Township, Clearfield County, Pa.; Consumptive Use of Up to 4.0000 mgd; Approval Date: October 31, 2022.

37. Seneca Resources Company, LLC; Pad ID: PHC Pad T; ABR-201009039.R2; Lawrence Township, Clearfield County, Pa.; Consumptive Use of Up to 4.0000 mgd; Approval Date: October 31, 2022.

38. Seneca Resources Company, LLC; Pad ID: Wood 496; ABR-201009026.R2; Richmond Township, Tioga County, Pa.; Consumptive Use of Up to 4.0000 mgd; Approval Date: October 31, 2022.

Authority: Public Law 91-575, 84 Stat. 1509 et seq., 18 CFR parts 806 and 808.

Dated: November 8, 2022.
Jason E. Oyler,
General Counsel and Secretary to the Commission.

[FR Doc. 2022-24695 Filed 11-10-22; 8:45 am]

BILLING CODE 7040-01-P